OFFICE OF MANAGEMENT AND BUDGET

Office of Federal Procurement Policy

DEPARTMENT OF DEFENSE

GENERAL SERVICES ADMINISTRATION

NATIONAL AERONAUTICS AND SPACE ADMINISTRATION

[OMB Control No. 9000-0129; Docket No. FAR-2025-0053; Sequence No. 11]

Submission for OMB Review; Cost Accounting Standards Administration

AGENCY: Office of Federal Procurement Policy (OFPP), Office of Management and Budget (OMB); Department of Defense (DOD); General Services Administration (GSA); and National Aeronautics and Space Administration (NASA).

ACTION: Notice.

SUMMARY: Under the provisions of the Paperwork Reduction Act, the Regulatory Secretariat Division has submitted to OMB a request to review and approve an extension of a previously approved information collection requirement regarding cost accounting standards administration.

DATES: Submit comments on or before July 16, 2025.

ADDRESSES: Written comments and recommendations for this information collection should be sent within 30 days of publication of this notice to www.reginfo.gov/public/do/PRAMain. Find this particular information collection by selecting “Currently under Review—Open for Public Comments” or by using the search function.

FOR FURTHER INFORMATION CONTACT: FARPolicy@gsa.gov or call 202-969-4075.

SUPPLEMENTARY INFORMATION:

A. OMB Control Number, Title, and Any Associated Form(s)

9000-0129, Cost Accounting Standards Administration.

B. Need and Uses

This clearance covers the information that contractors must submit to comply with the following Federal Acquisition Regulation (FAR) requirements:

FAR 52.230-6, Administration of Cost Accounting Standards. This clause requires contractors performing Cost Accounting Standards (CAS) covered contracts to submit notifications and descriptions of certain cost accounting practice changes, including revisions to their Disclosure Statements, if applicable. Often these descriptions are quite complex. This clause also requires contractors to submit rationale to support any contractor written statement that the cost impact of the change is immaterial.

The information is used by contracting officers for ascertaining compliance with CAS.

C. Annual Burden

Respondents: 607.

Total Annual Responses: 1,821.

Total Burden Hours: 318,675.

D. Public Comment

A 60-day notice was published in the Federal Register at 90 FR 14451, on April 2, 2025. No comments were received.

Obtaining Copies: Requesters may obtain a copy of the information collection documents from the GSA Regulatory Secretariat Division, by calling 202-501-4755 or emailing GSARegSec@gsa.gov. Please cite OMB Control No. 9000-0129, Cost Accounting Standards Administration.

Janet Fry,
Director, Federal Acquisition Policy Division, Office of Governmentwide Acquisition Policy, Office of Acquisition Policy, Office of Governmentwide Policy.

[FR Doc. 2025-11064 Filed 6-13-25; 8:45 am]

BILLING CODE 6820-EP-P